DEPARTMENT OF ENERGY

Notice of Availability for the Draft Supplemental Environmental Impact Statement for the Alaska LNG Project

AGENCY: Office of Fossil Energy and Carbon Management, Department of Energy.

ACTION: Notice of availability and virtual public meeting.

SUMMARY: The U.S. Department of Energy (DOE) has prepared a Draft Supplemental Environmental Impact Statement (SEIS) to evaluate the potential environmental impacts associated with authorizing Alaska LNG Project LLC (Alaska LNG) to export liquefied natural gas (LNG) from the Alaska Gasline Development Corporation's (AGDC) proposed Alaska LNG Project. DOE is also announcing a public comment period and a virtual public meeting to receive comments on the Draft SEIS. DOE prepared the Draft SEIS in accordance with the National Environmental Policy Act of 1969 (NEPA), to inform its decision on rehearing under the Natural Gas Act (NGA).

DATES: DOE invites the public to comment on the Draft SEIS during the 45-day public comment period, which begins on July 1, 2022, and ends on August 15, 2022. Beginning July 1, 2022, comments may be submitted online at www.regulations.gov by entering “Alaska LNG” into the search field and following the prompts. Written comments may also be sent via mail to: U.S. Department of Energy, National Energy Technology Laboratory, ATTN: Mark Lusk, NEPA Compliance Officer, 3610 Collins Ferry Road, Morgantown, WV 26505. DOE will consider all comments postmarked or received during the public comment period when preparing the Final SEIS.

DOE will hold a virtual public meeting on Wednesday July 20, 2022, in which the public may provide verbal comments on the Draft SEIS during the meeting. See the ADDRESSES section for details on the meeting process.

ADDRESSES: Questions concerning the Draft SEIS or requests for a paper copy should be directed to: Mark Lusk via email to mark.lusk@netl.doe.gov or phone at (304) 285-4145.

Availability of the Draft SEIS: DOE mailed notification letters to announce the Notice of Availability of the Draft SEIS to federal, state, and local government representatives and agencies; elected officials; environmental and public interest groups; Tribes; other interested individuals and groups; and newspapers and libraries in the project area.

An electronic copy of the Draft SEIS may be found online on the following website: www.energy.gov/nepa/doeeis-0512-s1-supplemental-environmental-impact-statement-alaska-lng-project.

Paper copies of the Draft SEIS are available for public review at the following locations: Anchorage Public Library (Z.J. Loussac Library), 3600 Denali Street, Anchorage, AK 99503; Arctic Interagency Visitor Center, Mile 175 Dalton Highway, P.O. Box 9079, Coldfoot, AK 99701; Charles Evans Community School Library, 299 Antoski Drive, Galena, AK 99741; Noel Wien Public Library, 1215 Cowles Street, Fairbanks, AK 99701; Kenai Community Library, 163 Main Street Loop, Kenai, AK 99611; Trapper Creek Library, 8901 East Devonshire Drive, Trapper Creek, AK 99683; Tri-Valley Community Library, Suntrana Road, P.O. Box 518, Healy, AK 99743; and Wasilla Public Library, 500 North Crusey Street, Wasilla, AK 99654. Additional copies also can be requested (see ADDRESSES section for details).

Virtual Public Meeting: DOE will conduct a virtual public meeting for the Draft SEIS on Wednesday July 20, 2022, from 4:00 p.m. to 6:00 p.m. AKDT (8:00 p.m. to 10:00 p.m. EDT). Members of the public may join the virtual public meeting from a computer or compatible mobile device through the Zoom app, clicking `Join a Meeting', and entering the following information—Meeting ID: 944 3452 6764. The Zoom app may also be launched from the Zoom website at https://zoom.us/join, entering the Meeting ID, and following the prompts. For members of the public who do not have access to an internet connection, they may join the meeting audio by dialing the following number: (301) 715-8592. When prompted, enter the following information: Meeting ID—944 3452 6764. Then press the pound (#) key.

The virtual public meeting will begin with a presentation on the NEPA process and the proposed Project. Following the presentation, there will be a moderated session during which members of the public can provide verbal comments on the Draft SEIS. All comments provided during the virtual public meeting will be transcribed and become part of the formal record. Commenters will be asked to limit their verbal comments during the virtual public meeting to 3 minutes. As indicated previously comments on the Draft SEIS may also be submitted during the public comment period via the www.regulations.gov website or mailed by paper copy (See the DATES section for details). All comments, whether verbal or written, will be considered by DOE as the SEIS is finalized.

FOR FURTHER INFORMATION CONTACT: Please contact Mark Lusk, via email to mark.lusk@netl.doe.gov or phone at (304) 285-4145, NEPA Compliance Officer, if special assistance is needed to participate in the virtual public meeting (see ADDRESSES section for details).

SUPPLEMENTARY INFORMATION:

Background

DOE's Office of Fossil Energy and Carbon Management ¹ is in the process of rehearing DOE/FE Order No. 3643-A, issued on August 20, 2020, in Docket No. 14-96-LNG (Alaska LNG Order).² In the Alaska LNG Order, DOE authorized exports of LNG from the proposed Alaska LNG Project to countries that do not have a free trade agreement (FTA) requiring national treatment for trade in natural gas, and with which trade is not prohibited by U.S. law or policy (non-FTA countries).³

¹ The Office of Fossil Energy (FE) changed its name to the Office of Fossil Energy and Carbon Management (FECM) on July 4, 2021.

² See Alaska LNG Project LLC, DOE/FE Order No. 3643-A, Docket 14-96-LNG, Final Opinion and Order Granting Long-Term Authorization to Export Liquefied Natural Gas to Non-Free Trade Agreement Nations (Aug. 20, 2020), www.energy.gov/fecm/downloads/alaska-lng-project-llc-fe-dkt-no-14-96-lng-0. For all DOE documents referenced herein, please see the Alaska LNG docket at: www.energy.gov/fecm/articles/alaska-lng-project-llc-fe-dkt-no-14-96-lng.

³ 15 U.S.C. 717b(a).

As approved by the Federal Energy Regulatory Commission (FERC), the Alaska LNG Project involves producing natural gas from resources on the North Slope of Alaska, transporting the natural gas on a proposed 806.9-mile-long pipeline, and exporting the natural gas in the form of LNG by vessel from a liquefaction facility to be constructed in the Nikiski area of the Kenai Peninsula in south central Alaska.⁴ Under Order No. 3643-A, Alaska LNG is currently authorized to export this LNG in a volume equivalent to 929 billion cubic feet per year (Bcf/yr) of natural gas (2.55 Bcf per day), for a term of 30 years.

⁴ See Alaska Gasline Dev. Corp., Order Granting Authorization Under Section 3 of the Natural Gas Act, 171 FERC ¶ 61,134 (May 21, 2020). Alaska Gasline Development Corporation (AGDC), an independent, public corporation of the State of Alaska, holds the authorization from FERC to site, construct, and operate the proposed Alaska LNG Project.

On April 15, 2021, in Order No. 3643-B, DOE announced that it was granting rehearing of Order No. 3643-A under the NGA for the purpose of conducting additional environmental analysis.⁵ Subsequently, on July 2, 2021, DOE published a “Notice of Intent to Prepare a Supplemental Environmental Impact Statement for the Alaska LNG Project” under NEPA.⁶ The Draft SEIS being issued today supplements the Final Environmental Impact Statement (EIS) for the Alaska LNG Project published by FERC on March 6, 2020, and adopted by DOE on March 16, 2020 (DOE/EIS-0512).

⁵ See Alaska LNG Project LLC, DOE/FE Order No. 3643-B, Docket 14-96-LNG, Order on Rehearing (Apr. 15, 2021), www.energy.gov/sites/default/files/2021-04/ord3643b.pdf. DOE's Order on Rehearing granted a Request for Rehearing filed by Sierra Club. See Id. at 1-2, 5-6 (discussing procedural background).

⁶ 42 U.S.C. 4321 et seq. See U.S. Dep't of Energy, Notice of Intent to Prepare a Supplemental Environmental Impact Statement for the Alaska LNG Project, 86 FR 35280 (July 2, 2021); see also www.energy.gov/nepa/articles/doeeis-0512-s1-notice-intent-july-2-2021.

The Draft SEIS examines the potential upstream environmental effects associated with incremental natural gas production on the North Slope of Alaska to support Alaska LNG's exports of LNG. The SEIS also includes a life cycle analysis (LCA) calculating the greenhouse (GHG) emissions associated with exporting LNG from the proposed Project.⁷ Specifically, the LCA examines the life cycle GHG emissions for LNG exported from Alaska by vessel to import markets in Asia (the markets targeted for exports from Alaska) and potentially in other regions.

⁷ DOE previously has explained that a LCA is a method of accounting for cradle-to-grave GHG emissions over a single common denominator. DOE considers GHG emissions from all processes in the LNG supply chains—from the “cradle” when natural gas is extracted from the ground, to the “grave” when electricity is used by the consumer. See U.S. Dep't of Energy, Life Cycle Greenhouse Gas Perspective on Exporting Liquefied Natural Gas From the United States: 2019 Update—Response to Comments, 85 FR 72, 76 (Jan. 2, 2020).

NEPA Process and Public Involvement

DOE prepared the Draft SEIS in accordance with the Council on Environmental Quality (CEQ) regulations at Title 40, Code of Federal Regulations, Parts 1500-1508 (40 CFR 1500-1508) and DOE NEPA implementing procedures at 10 CFR part 1021. DOE published a Notice of Intent in the Federal Register on July 2, 2021, announcing its intent to prepare a SEIS.⁸ DOE is providing opportunities for public review and comments, including a virtual public meeting, on this Draft SEIS (see DATES and ADDRESSES sections of this notice).

⁸ See supra note 6.

Signed in Washington, DC, on June 24, 2022.
Amy Sweeney,
Director, Office of Regulation, Analysis, and Engagement, Office of Resource Sustainability.

[FR Doc. 2022-13869 Filed 6-28-22; 8:45 am]

BILLING CODE 6450-01-P